NATIONAL SCIENCE FOUNDATION

Final Environmental Impact Statement (FEIS) for the Arecibo Observatory, Arecibo, Puerto Rico

AGENCY: National Science Foundation.

ACTION: Notice of availability.

SUMMARY: The National Science Foundation (NSF) announces the availability of the Final Environmental Impact Statement (FEIS) for Arecibo Observatory. This Final EIS identifies and analyzes the potential consequences of the following alternatives: Alternative 1, Collaboration with Interested Parties for Continued Science-focused Operations (Agency-preferred Alternative); Alternative 2, Collaboration with Interested Parties for Transition to Education-focused Operations; Alternative 3, Mothballing of Facilities; Alternative 4, Partial Demolition and Site Restoration; and Alternative 5, Complete Demolition and Site Restoration; and the No Action Alternative, Continued NSF Investment for Science‐focused Operations. It also proposes mitigation measures to minimize the adverse impacts from demolition or operation of the alternatives where such impacts may occur. Consultation under Section 106 of the National Historic Preservation Act (NHPA) is being conducted concurrent to the NEPA process.

DATES: The National Science Foundation will execute a Record of Decision no sooner than 30 days after the date of publication of the Notice of Availability published in the Federal Register by the Environmental Protection Agency.

ADDRESSES: The Final EIS is made available for public inspection on-line at www.nsf.gov/AST. A Spanish translation of the Executive Summary of the Final EIS is posted.

A copy of the DEIS will be available for review at the following libraries in Puerto Rico:

Biblioteca Electrónica Pública Municipal Nicolás Nadal Barreto, 210 Calle Santiago Iglesias, Arecibo, PR, Phone: (787) 878-1178

Archivo General y Biblioteca Nacional de PR, 500 Avenida Juan Ponce De León, San Juan, PR, Phone: (787) 725-1060 ext. 2001

FOR FURTHER INFORMATION CONTACT: Ms. Elizabeth Pentecost, Re: Arecibo Observatory, 4201 Wilson Blvd., Room 1045, Arlington, VA 22230; envcomp-AST@nsf.gov; 703-292-4907.

SUPPLEMENTARY INFORMATION: The Arecibo Observatory is an NSF-owned scientific research and education facility located in Puerto Rico. In 2011, NSF awarded a Cooperative Agreement to SRI International (SRI), which together with Universities Space Research Association (USRA) and Universidad Metropolitana (UMET) formed the Arecibo Management Team to operate and maintain the Arecibo Observatory for the benefit of research communities. The initial 5-year period of performance of the Cooperative Agreement was extended 18 months, to 31 March 2018. Arecibo Observatory enables research in three scientific disciplines: space and atmospheric sciences, radio astronomy, and solar system radar studies; the last of these is largely funded through a research award to USRA from the National Aeronautics and Space Administration. An education and public outreach program complements the Arecibo Observatory scientific program. A key component of the Arecibo Observatory research facility is a 305-meter diameter, fixed, spherical reflector. Arecibo Observatory infrastructure includes instrumentation for radio and radar astronomy and ionospheric physics, office and laboratory buildings, a heavily utilized visitor and education facility, and lodging facilities for visiting scientists.

Through a series of academic community-based and portfolio reviews, NSF identified the need to divest of several facilities from its portfolio in order to retain the balance of capabilities needed to deliver the best performance on the key science of the present decade and beyond. In 2016, NSF completed a feasibility study to inform and define options for the observatory's future disposition that would involve significantly decreasing or eliminating NSF funding of Arecibo. Concurrently, NSF sought viable concepts of operations from the scientific community via a Dear Colleague Letter NSF 16-005 (see www.nsf.gov/AST). NSF issued a Notice of Intent to prepare an EIS on May 23, 2016, held scoping meetings on June 7, 2016, and held a 30-day public comment period that closed on June 23, 2016. On September 30, 2016, NSF issued a Dear Colleague Letter NSF 16-144 (see www.nsf.gov/AST) to notify the Observatory stakeholder community that NSF intended to issue a follow-up solicitation, requesting the submission of formal proposals involving the continued operation of Arecibo Observatory to provide additional information for the decision process for the ultimate disposition of Arecibo Observatory. The solicitation (NSF 17-538) was released on January 25, 2017.

The Draft EIS was made available for public review and comment from October 28, 2016, through December 12, 2016. The full Draft EIS was also posted on the NSF, Division of Astronomical Sciences Web site (www.nsf.gov/AST) and hard copies were delivered to local libraries. During the review period, the NSF received over 400 comments—the majority of comments were against closing the Arecibo Observatory and suggestions for what resources to include in the EIS. After considering all comments received, the NSF prepared the Final EIS. There are no substantive changes to the range of alternatives considered. Alternative 1 is identified as the “Agency-preferred Alternative.”

Dated: August 1, 2017.
Suzanne H. Plimpton,
Reports Clearance Officer, National Science Foundation.

[FR Doc. 2017-16435 Filed 8-3-17; 8:45 am]

BILLING CODE 7555-01-P